DEPARTMENT OF HEALTH AND HUMAN SERVICES

Health Resources and Services Administration

Agency Information Collection Activities: Proposed Collection: Public Comment Request

AGENCY: Health Resources and Services Administration, HHS.

ACTION: Notice.

SUMMARY: In compliance with the requirement for opportunity for public comment on proposed data collection projects (Section 3506(c)(2)(A) of the Paperwork Reduction Act of 1995), the Health Resources and Services Administration (HRSA) announces plans to submit an Information Collection Request (ICR), described below, to the Office of Management and Budget (OMB). Prior to submitting the ICR to OMB, HRSA seeks comments from the public regarding the burden estimate, below, or any other aspect of the ICR.

DATES: Comments on this Information Collection Request must be received no later than July 27, 2015.

ADDRESSES: Submit your comments to paperwork@hrsa.gov or mail the HRSA Information Collection Clearance Officer, Room 10-29, Parklawn Building, 5600 Fishers Lane, Rockville, MD 20857.

FOR FURTHER INFORMATION CONTACT: To request more information on the proposed project or to obtain a copy of the data collection plans and draft instruments, email paperwork@hrsa.gov or call the HRSA Information Collection Clearance Officer at (301) 443-1984.

SUPPLEMENTARY INFORMATION: When submitting comments or requesting information, please include the information request collection title for reference.

Information Collection Request Title: Medicare Rural Hospital Flexibility Grant Program Performance OMB No. 0915-0363-Rev.

Abstract: The Medicare Rural Hospital Flexibility Program (Flex) is authorized by Section 1820 of the Social Security Act (42 U.S.C. 1395i-4), as amended. The purpose of Flex is engaging state designated entities in activities relating to planning and implementing rural health care plans and networks; designating facilities as Critical Access Hospitals (CAHs); providing support for CAHs for quality improvement, quality reporting, performance improvements, and benchmarking; and integrating rural emergency medical services (EMS).

Specifically, the Flex program provides funding for states to support technical assistance activities in hospitals to improve the quality of health care provided by CAHs; improve the financial and operational outcomes of CAHs; improve the Community Health and Emergency Medical Service (EMS) Needs of CAHs; enhance the health of rural communities through community/population health improvement; improve identification and management of Time Critical Diagnoses (TCD) and engage EMS capacity and performance in Rural Communities; assist in the conversion of qualified small rural hospitals to CAH status; and support the financial and operational transition to value based models and health care transformation models in the health care system. State designated Flex Programs will act as a resource and focal point for these activities, ensuring residents in rural communities have access to high quality health care services. Measures and goals identified in the Flex program take into consideration existing measures and priorities HHS has set for hospitals, to avoid both conflict and duplication of efforts.

Need and Proposed Use of the Information: For this program, performance measures were drafted to provide data useful to the Flex program and to enable HRSA to provide aggregate program data required by Congress under the Government Performance and Results Act (GPRA) of 2010. These measures cover principal topic areas of interest to the Federal Office of Rural Health Policy (FORHP), including: (a) Quality reporting; (b) quality improvement interventions; (c) financial and operational improvement initiatives; (d) population health management; and (e) innovative care models. Several measures will be used for this program and will inform FORHP's progress toward meeting the goals set in GPRA. Furthermore, obtaining this information is important for identifying and understanding programmatic improvement across program areas, as well as guiding future iterations of the Flex Program and prioritizing areas of need and support.

Likely Respondents: Respondents will be the Flex Program coordinator for each state participating in the Flex Program. There are currently 45 states participating in the Flex Program.

Burden Statement: Burden in this context means the time expended by persons to generate, maintain, retain, disclose or provide the information requested. This includes the time needed to review instructions; to develop, acquire, install and utilize technology and systems for the purpose of collecting, validating and verifying information, processing and maintaining information, and disclosing and providing information; to train personnel and to be able to respond to a collection of information; to search data sources; to complete and review the collection of information; and to transmit or otherwise disclose the information. The total annual burden hours estimated for this Information Collection Request are summarized in the table below.

Total Estimated Annualized burden hours:

Form name | Number of respondents | Number of responses per respondent | Total responses | Average burden per response (in hours) | Total burden hours
Medicare Rural Hospital Flexibility Grant Program | 45 | 1 | 45 | 216 | 9,720
Total | 45 | 1 | 45 | 216 | 9,720

HRSA specifically requests comments on: (1) The necessity and utility of the proposed information collection for the proper performance of the agency's functions; (2) the accuracy of the estimated burden; (3) ways to enhance the quality, utility, and clarity of the information to be collected; and (4) the use of automated collection techniques or other forms of information technology to minimize the information collection burden.

Jackie Painter,
Director, Division of the Executive Secretariat.

[FR Doc. 2015-12700 Filed 5-26-15; 8:45 am]

BILLING CODE 4165-15-P